DEPARTMENT OF AGRICULTURE

Agricultural Marketing Service

[Docket No. AMS-FV-09-0025; FV09-900-1NC]

Request for New Information Collection

AGENCY: Agricultural Marketing Service, USDA.

ACTION: Notice and request for comments.

SUMMARY: In accordance with the Paperwork Reduction Act of 1995 (44 U.S.C. Chapter 35), this notice announces the Agricultural Marketing Service's (AMS) intention to request approval for an information collection for the AMS Survey of Marketing Order Online System (MOLS) Users, the automated FV-6 form used by importers and receivers for exempt imported fruits, vegetables and specialty crops.

DATES: Comments on this notice must be received by November 9, 2009.

ADDRESSES: Interested persons are invited to submit written comments concerning this notice. Comments can be sent to Valerie L. Emmer-Scott, Marketing Specialist, Marketing Order Administration Branch, Fruit and Vegetable Programs, AMS, USDA, 1400 Independence Avenue, SW., Washington, DC 20250-0237; (202) 205-2829, Fax: (202) 720-8938, or Internet: http://www.regulations.gov. All comments should reference the docket number and the date and page number of this issue of the Federal Register and will be made available for public inspection in the Office of the Docket Clerk during regular business hours, or can be viewed at: http://www.regulations.gov.

FOR FURTHER INFORMATION CONTACT: Nicole Nelson, Compliance Team, Marketing Order Administration Branch, AMS, USDA, (202) 720-6467, or E-mail: nicole.nelson@ams.usda.gov.; or Greg Breasher, Compliance Team, Marketing Order Administration Branch, AMS, USDA, (559) 487-5003, or E-mail: gregory.breasher@ams.usda.gov.

SUPPLEMENTARY INFORMATION: Title: Marketing Order Online System (MOLS) Survey, Form FV-660.

OMB Number: 0581-NEW.

Type of Request: New information collection.

Abstract: Section 8e of the Agricultural Marketing Agreement Act of 1937 (7 U.S.C. 601-674), hereinafter referred to as the “Act”, requires that when the Secretary of Agriculture issues grade, size, quality, or maturity regulations under domestic marketing orders for certain commodities, the same or comparable regulations apply to imports of those commodities. Import regulations apply only during those periods when domestic marketing order regulations are in effect.

Currently, the following commodities are subject to Section 8e import regulations: avocados, dates (other than dates for processing), hazelnuts, grapefruit, table grapes, kiwifruit, olives (other than Spanish-style olives), onions, oranges, Irish potatoes, dried prunes (suspended), fresh prunes, raisins, tomatoes, and walnuts. However, imports of these commodities are exempt from such requirements if they are imported for such outlets as processing, charity, animal feed, seed and distribution to relief agencies under the applicable marketing orders.

Safeguard procedures in the form of importer and receiver reporting requirements ensure that the imported commodities are shipped to authorized exempt outlets. Reports required under the safeguard procedures are similar to the reports currently required by most domestic marketing orders. The following import regulations require importers and receivers of imported fruit, vegetable and specialty crops to submit reports: (1) Fruits; import regulations (7 CFR part 944.350); (2) Vegetables; import regulations (7 CFR part 980.501); and (3) Specialty crops; import regulations (7 CFR part 999.500).

When required to do so under the above regulations, an importer wishing to import commodities for exempt purposes completes Form FV-6, “Importer's Exempt Commodity Form,” prior to importation. In August 2008, the web-based application, “Marketing Order Online System (MOLS)” was launched allowing fruit, vegetable and specialty crop importers and receivers to submit, review and search for FV-6 certificates online. The MOLS was developed to not only help USDA manage incoming FV-6 forms, but to also help importers reduce paperwork, streamline operations and allows the most efficient clearance through U.S. Customs and Border Protection. The FV-6 form and the MOLS are currently approved by the Office of Management and Budget (OMB) under OMB No. 0581-0167, “Specified Commodities Imported into the United States Exempt from Import Requirements.”

The MOLS requires the minimum amount of information necessary to effectively carry out the requirements of the Act. It fulfills the intent of the Act and administers Section 8e compliance activities.

AMS offered MOLS to a test group of importers and receivers in November 2008. In January 2009, AMS opened the system to all importers and receivers. Although the MOLS is the recommended form of FV-6 submission, paper copies are occasionally used by those respondents who do not have internet access.

AMS has developed a customer satisfaction survey, Form FV-660, to gather specific information from approximately 200 respondents currently registered and utilizing the MOLS. Information will be collected on a voluntary basis, and the respondents' identities will not be revealed in the survey results. The survey will allow AMS to better serve the fruit, vegetable and specialty crop importing and handling community. AMS is seeking OMB approval of the survey, under OMB No. 0581-NEW. Upon approval, we request that the burden be merged into OMB No. 0581-0167.

The information collected through this package will be used and analyzed by authorized representatives of USDA, including AMS' Fruit and Vegetable Programs' headquarters staff. The survey, FV-660, would be distributed by e-mail to the respondents. Respondents would return the survey by e-mail to the address on the survey form.

Estimate of Burden: Public reporting burden for this collection of information is estimated to average .25 hours per response.

Respondents: Importers and receivers.

Estimated Number of Respondents: 200.

Estimated Number of Responses per Respondent: 1.

Estimated Total Annual Burden on Respondents: 50 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments received will become a matter of public record.

Dated: September 2, 2009.
Rayne Pegg,
Administrator, Agricultural Marketing Service.

[FR Doc. E9-21655 Filed 9-8-09; 8:45 am]

BILLING CODE 3410-02-P